SUSQUEHANNA RIVER BASIN COMMISSION

Commission Meeting

AGENCY: Susquehanna River Basin Commission.

ACTION: Notice.

SUMMARY: The Susquehanna River Basin Commission will hold its regular business meeting on September 7, 2018, in Binghamton, New York. Details concerning the matters to be addressed at the business meeting are contained in the Supplementary Information section of this notice.

DATES: The meeting will be held on Friday, September 7, 2018, at 9 a.m.

ADDRESSES: The meeting will be held at the DoubleTree by Hilton Binghamton, North Riverside Room, 225 Water Street, Binghamton, NY 13901.

FOR FURTHER INFORMATION CONTACT: Gwyn Rowland, Manager, Governmental & Public Affairs, 717-238-0423, ext. 1316.

SUPPLEMENTARY INFORMATION: The business meeting will include actions or presentations on the following items: (1) Informational presentation of interest to the upper Susquehanna River region; (2) release of proposed rulemaking and policies for public comment; (3) revisions to financial instruments and policies; (4) ratification/approval of contracts/grants; (5) a report on delegated settlements; (6) a proposed consumptive use mitigation project located in Conoy Township, Lancaster County, Pa.; and (7) Regulatory Program projects.

Regulatory Program projects and the consumptive use mitigation project listed for Commission action are those that were the subject of a public hearing conducted by the Commission on August 2, 2018, and identified in the notice for such hearing, which was published in 83 FR 31439, July 5, 2018.

The public is invited to attend the Commission's business meeting. Comments on the Regulatory Program projects and the consumptive use mitigation project were subject to a deadline of August 13, 2018. Written comments pertaining to other items on the agenda at the business meeting may be mailed to the Susquehanna River Basin Commission, 4423 North Front Street, Harrisburg, Pennsylvania 17110-1788, or submitted electronically through http://www.srbc.net/pubinfo/publicparticipation.htm. Such comments are due to the Commission on or before August 31, 2018. Comments will not be accepted at the business meeting noticed herein.

Authority: Pub. L. 91-575, 84 Stat. 1509 et seq., 18 CFR parts 806, 807, and 808.

Dated: August 3, 2018.
Stephanie L. Richardson,
Secretary to the Commission.

[FR Doc. 2018-16980 Filed 8-7-18; 8:45 am]

BILLING CODE 7040-01-P